DEPARTMENT OF COMMERCE

National Oceanic and Atmospheric Administration

RIN 0648-XJ62

North Pacific Fishery Management Council; Notice of Public Meeting

AGENCY: National Marine Fisheries Service (NMFS), National Oceanic and Atmospheric Administration (NOAA), Commerce.

ACTION: Notice.

SUMMARY: The North Pacific Fishery Management Council (Council) will host a public workshop on proposed gear modifications to trawl sweeps used in the BSAI flatfish fisheries, at Dantrawl, in Seattle.

DATES: The meeting will be held on September 8, 2008, 1 p.m.-5 p.m.

ADDRESSES: Dantrawl, 1121 NW 52nd, Seattle, WA 98107.

Council address: North Pacific Fishery Management Council, 605 W. 4th Ave., Suite 306, Anchorage, AK 99501-2252.

FOR FURTHER INFORMATION CONTACT: Diana Evans, Council staff, Phone: 907-271-2809.

SUPPLEMENTARY INFORMATION: The agenda will be as follows:

(1) Introductions; (2) Latest research results; (3) Gear designs (bobbins, placement, rope types, with net reels and without net reels, practical applications); (4) Council June motion; (5) Draft regulations; (6) Monitoring and enforcement issues (identify problems and suggest solutions).

These meetings are physically accessible to people with disabilities. Requests for sign language interpretation or other auxiliary aids should be directed to Gail Bendixen at 907-271-2809 at least 7 working days prior to the meeting date.

Dated: August 4, 2008.
Tracey L. Thompson,
Acting Director, Office of Sustainable Fisheries, National Marine Fisheries Service.

[FR Doc. E8-18161 Filed 8-6-08; 8:45 am]

BILLING CODE 3510-22-S